DEPARTMENT OF HEALTH AND HUMAN SERVICES

National Institutes of Health

National Institutes on Alcohol Abuse and Alcoholism; Amended Notice of Meeting

Notice is hereby given of a change in the meeting of the National Institute of Alcohol Abuse and Alcoholism Special Emphasis Panel, July 17, 2001, 9 a.m. to July 18, 2001, 5 p.m., The Hyatt Regency Hotel, 100 Bethesda, Metro Center, Bethesda, MD 20814 which was published in the Federal Register on May 23, 2001, FR 66 29339.

The meeting has been changed to August 16-17, 2001, at the Radisson Barcelo Hotel, 2121 P Street, NW., Washington, DC. The meeting is closed to the public.

Dated: June 28, 2001.
LaVerne Y. Stringfield,
Director, Office of Federal Advisory Committee Policy.

[FR Doc. 01-17019 Filed 7-6-01; 8:45 am]

BILLING CODE 4140-01-M